DEPARTMENT OF ENERGY

Federal Energy Regulatory Commission

Combined Notice of Filings #1

February 02, 2010.

Take notice that the Commission received the following electric corporate filings:

Docket Numbers: EC10-43-000.

Applicants: Acadia Power Partners, LLC, Entergy Louisiana, LLC.

Description: Acadia Power Partners, LLC et al submits an Application for Authorization under Section 203 of the Federal Power Act and Part 33 etc.

Filed Date: 01/29/2010.

Accession Number: 20100201-0225.

Comment Date: 5 p.m. Eastern Time on Friday, February 19, 2010.

Docket Numbers: EC10-44-000.

Applicants: Cresent Ridge, LLC.

Description: Application of Cresent Ridge, LLC.

Filed Date: 02/02/2010.

Accession Number: 20100202-5062.

Comment Date: 5 p.m. Eastern Time on Tuesday, February 23, 2010.

Take notice that the Commission received the following electric rate filings:

Docket Numbers: ER97-4257-014.

Applicants: Mid-Power Service Corporation.

Description: Mid-Power Service Corporation submits an amendment to the tariff page that was included in their Amended and Restated Application for authorization to make wholesale sales of energy and capacity at negotiated, market-bases rates.

Filed Date: 02/01/2010.

Accession Number: 20100202-0028.

Comment Date: 5 p.m. Eastern Time on Monday, February 22, 2010.

Docket Numbers: ER99-2984-014.

Applicants: Green Country Energy, LLC.

Description: Green Country Energy, LLC provides revised market-based rate wholesale power sales tariff et al.

Filed Date: 02/01/2010.

Accession Number: 20100202-0012.

Comment Date: 5 p.m. Eastern Time on Monday, February 22, 2010.

Docket Numbers: ER01-3103-021.

Applicants: Astoria Energy LLC.

Description: Astoria Energy LLC Submits Order 697 C Report.

Filed Date: 02/02/2010.

Accession Number: 20100202-5083.

Comment Date: 5 p.m. Eastern Time on Tuesday, February 23, 2010.

Docket Numbers: ER03-198-013.

Applicants: Pacific Gas and Electric Company.

Description: Quarterly Report of Site Control for New Generation Capacity Development.

Filed Date: 01/29/2010.

Accession Number: 20100129-5109.

Comment Date: 5 p.m. Eastern Time on Friday, February 19, 2010.

Docket Numbers: ER03-1330-002.

Applicants: EBERSEN, INC.

Description: Ebersen, Inc submits update on market-base rate authority etc.

Filed Date: 02/01/2010.

Accession Number: 20100202-0027.

Comment Date: 5 p.m. Eastern Time on Tuesday, February 16, 2010.

Docket Numbers: ER07-1136-004; ER08-561-002.

Applicants: Benton County Wind Farm LLC; Camp Grove Wind Farm LLC.

Description: Report/Form of Benton County Wind Farm LLC, et al.

Filed Date: 01/29/2010.

Accession Number: 20100129-5116.

Comment Date: 5 p.m. Eastern Time on Friday, February 19, 2010.

Docket Numbers: ER07-1213-003; ER08-267-002.

Applicants: Pacific Gas and Electric Company.

Description: Compliance Electric Refund Report re TO10 of Pacific Gas and Electric Company.

Filed Date: 01/29/2010.

Accession Number: 20100129-5242.

Comment Date: 5 p.m. Eastern Time on Friday, February 19, 2010.

Docket Numbers: ER07-1356-014; ER07-1112-012; ER07-1113-012; ER07-1116-011; ER07-1117-014; ER07-1358-013; ER07-1118-013; ER00-2885-028; ER01-2765-027; ER09-609-005; ER09-1141-007; ER05-1232-023; ER02-2102-027; ER03-1283-022.

Applicants: BE Alabama LLC; BE Allegheny LLC; BE CA LLC; BE Ironwood LLC; BE KJ LLC; BE Louisiana LLC; BE Rayle LLC; Cedar Brakes I LLC; Cedar Brakes II, LLC; Central Power & Lime LLC; J.P. Morgan Commodities Canada Corporation; JP Morgan Ventures Energy Corporation; Utility Contract Funding, LLC; Vineland Energy LLC.

Description: Notice of Non-Material Change in Status of J.P. Morgan Ventures Energy Corporation, et. al. Pursuant to Order 697-C.

Filed Date: 02/01/2010.

Accession Number: 20100201-5023.

Comment Date: 5 p.m. Eastern Time on Monday, February 22, 2010.

Docket Numbers: ER09-1286-003.

Applicants: Elizabethtown Energy, LLC.

Description: Elizabethtown Energy, LLC submits notice of a non material change in status regarding a change in the upstream ownership structure pursuant to FERC's 8/19/09 Letter Order.

Filed Date: 01/29/2010.

Accession Number: 20100201-0227.

Comment Date: 5 p.m. Eastern Time on Friday, February 19, 2010.

Docket Numbers: ER09-1287-003.

Applicants: Lumberton Energy, LLC.

Description: Lumberton Energy, LLC submits supplement to notice of non-material change in status.

Filed Date: 01/29/2010.

Accession Number: 20100201-0228.

Comment Date: 5 p.m. Eastern Time on Friday, February 19, 2010.

Docket Numbers: ER10-662-000.

Applicants: CER Generation, LLC.

Description: CER Generation, LLC submits an Application for Order Authorizing Market-Based Rates, Certain Waivers, and Blanket Authorization, FERC Electric Tariff, Original Volume 1.

Filed Date: 01/29/2010.

Accession Number: 20100201-0212.

Comment Date: 5 p.m. Eastern Time on Friday, February 19, 2010.

Docket Numbers: ER10-669-000.

Applicants: Vermont Yankee Nuclear Power Corporation.

Description: Vermont Yankee Nuclear Power Corporation submits the Billing Methodology which is part of its FERC Electric Rate Schedule, First Revised Volume 12.

Filed Date: 01/28/2010.

Accession Number: 20100129-0209.

Comment Date: 5 p.m. Eastern Time on Thursday, February 18, 2010.

Docket Numbers: ER10-670-000.

Applicants: PacifiCorp.

Description: PacifiCorp submits Network Integration Transmission Service Agreement dated 12/22/09 with Sempra Energy Solutions LLC to be designated as First Revised Service Agreement 299 etc.

Filed Date: 01/28/2010.

Accession Number: 20100129-0208.

Comment Date: 5 p.m. Eastern Time on Thursday, February 18, 2010.

Docket Numbers: ER10-671-000.

Applicants: PacifiCorp.

Description: PacifiCorp submits Notice of Termination for Service Agreement 581 with Tri State Generation and Transmission Association.

Filed Date: 01/28/2010.

Accession Number: 20100129-0207.

Comment Date: 5 p.m. Eastern Time on Thursday, February 18, 2010.

Docket Numbers: ER10-672-000.

Applicants: Southwestern Public Service Company.

Description: Southwestern Public Service Company submits a revised, unexecuted service agreement for Network Integration Transmission Service etc.

Filed Date: 01/29/2010.

Accession Number: 20100129-0206.

Comment Date: 5 p.m. Eastern Time on Friday, February 19, 2010.

Docket Numbers: ER10-673-000.

Applicants: Consolidated Edison Company of New York.

Description: Consolidated Edison Company of New York, Inc submits amendment to Delivery Service Rate Schedule No 96.

Filed Date: 01/29/2010.

Accession Number: 20100129-0203.

Comment Date: 5 p.m. Eastern Time on Friday, February 19, 2010.

Docket Numbers: ER10-674-000.

Applicants: Westar Energy, Inc.

Description: Westar Energy submits an amendment to the Cost-Based Rate Agreement for full requirements electric service with Kansas Electric Cooperative, Inc.

Filed Date: 01/29/2010.

Accession Number: 20100129-0205.

Comment Date: 5 p.m. Eastern Time on Friday, February 19, 2010.

Docket Numbers: ER10-675-000.

Applicants: Southern California Edison Company.

Description: Southern California Edison Company submits revision to its Transmission Owner Tariff, FERC Electric Tariff, Second Revised Volume 6 to update the Transmission Access Charge Balancing Account Adjustment, effective 4/1/10.

Filed Date: 01/29/2010.

Accession Number: 20100129-0211.

Comment Date: 5 p.m. Eastern Time on Friday, February 19, 2010.

Docket Numbers: ER10-676-000.

Applicants: PJM Interconnection, LLC.

Description: PJM Interconnection, LLC submits revised interconnection service agreement among PJM, Fairless Energy, LLC, et al.

Filed Date: 01/29/2010.

Accession Number: 20100129-0204.

Comment Date: 5 p.m. Eastern Time on Friday, February 19, 2010.

Docket Numbers: ER10-677-000.

Applicants: Ameren Services Company.

Description: Centrail Illinois Light Company submits Facilities Service Agreement with Rail Splitter Wind Farm, LLC.

Filed Date: 01/29/2010.

Accession Number: 20100129-0215.

Comment Date: 5 p.m. Eastern Time on Friday, February 19, 2010.

Docket Numbers: ER10-678-000.

Applicants: Southwest Power Pool, Inc.

Description: Southwest Power Pool, Inc submits non substantive clean up revisions to numerous pages of its Open Access Tariff to be effective 3/31/10.

Filed Date: 01/29/2010.

Accession Number: 20100129-0217.

Comment Date: 5 p.m. Eastern Time on Friday, February 19, 2010.

Docket Numbers: ER10-679-000.

Applicants: Duke Energy Carolinas, LLC.

Description: Duke Energy Carolinas, LLC submits revised Network Integration Transmission Service Agreement with Commissions of Public Works of the City of Greenwood etc.

Filed Date: 01/29/2010.

Accession Number: 20100129-0216.

Comment Date: 5 p.m. Eastern Time on Friday, February 19, 2010.

Docket Numbers: ER10-680-000.

Applicants: Southwest Power Pool, Inc.

Description: Southwest Power Pool submits an executed Large Generator Interconnection Agreement with Southwestern Electric Power Company.

Filed Date: 01/29/2010.

Accession Number: 20100201-0221.

Comment Date: 5 p.m. Eastern Time on Friday, February 19, 2010.

Docket Numbers: ER10-681-000.

Applicants: Southwest Power Pool, Inc.

Description: Southwest Power Pool, Inc submits amendments to its Open Access transmission Tariff to incorporate interconnection procedures for generating facilities etc, to be effective 3/31/10.

Filed Date: 01/29/2010.

Accession Number: 20100201-0222.

Comment Date: 5 p.m. Eastern Time on Friday, February 19, 2010.

Docket Numbers: ER10-682-000.

Applicants: Southwest Power Pool, Inc.

Description: Southwest Power Pool submits an executed service agreement for the Network Integration Transmission Service with Sunflower Electric Power Corporation.

Filed Date: 01/29/2010.

Accession Number: 20100201-0220.

Comment Date: 5 p.m. Eastern Time on Friday, February 19, 2010.

Docket Numbers: ER10-683-000.

Applicants: Duke Energy Carolinas, LLC.

Description: Duke Energy Carolinas, LLC submits their Power Purchase Agreement with Western Carolina University.

Filed Date: 01/29/2010.

Accession Number: 20100201-0231.

Comment Date: 5 p.m. Eastern Time on Friday, February 19, 2010.

Docket Numbers: ER10-684-000.

Applicants: New England Power Pool.

Description: New England Power Pool submits the counterpart signature pages of New England Power Pool Agreement with Ameresco CT LLC et al.

Filed Date: 01/29/2010.

Accession Number: 20100201-0218.

Comment Date: 5 p.m. Eastern Time on Friday, February 19, 2010.

Docket Numbers: ER10-685-000.

Applicants: Midwest Independent System Transmission.

Description: Midwest ISO submits Multi Party Facilities Construction Agreement.

Filed Date: 01/29/2010.

Accession Number: 20100201-0233.

Comment Date: 5 p.m. Eastern Time on Friday, February 19, 2010.

Docket Numbers: ER10-686-000.

Applicants: Otter Tail Power Company.

Description: Midwest Independent Transmission System Operator, Inc et al submits revisions to the Midwest ISO's Open Access Transmission, Energy and Operating Reserve Markets Tariff, FERC Electric Tariff, Fourth Revised Volume 1.

Filed Date: 01/29/2010.

Accession Number: 20100202-0207.

Comment Date: 5 p.m. Eastern Time on Friday, February 19, 2010.

Docket Numbers: ER10-687-000.

Applicants: Midwest Independent System Transmission, ALLETE, Inc.

Description: Midwest Independent Transmission System Operator, Inc submits Notice of Succession with respect to certain Transmission Service Agreements etc.

Filed Date: 01/29/2010.

Accession Number: 20100202-0214.

Comment Date: 5 p.m. Eastern Time on Friday, February 19, 2010.

Docket Numbers: ER10-688-000.

Applicants: Arizona Public Service Company.

Description: Arizona Public Service Company submits Operation Maintenance and Replacement Agreement.

Filed Date: 01/29/2010.

Accession Number: 20100202-0209.

Comment Date: 5 p.m. Eastern Time on Friday, February 19, 2010.

Docket Numbers: ER10-689-000.

Applicants: Virginia Electric and Power Company.

Description: Dominion Virginia Power submits an executed Joint Ownership Agreement between Dominion and TrAILCo governing the construction and ownership of new 500kV transmission lines.

Filed Date: 01/29/2010.

Accession Number: 20100202-0208.

Comment Date: 5 p.m. Eastern Time on Friday, February 19, 2010.

Docket Numbers: ER10-690-000.

Applicants: Niagara Mohawk Power Corporation.

Description: Niagara Mohawk Power Corp submits an Amended and Restated Interconnection Agreement with Erie Boulevard Hydropower, LP.

Filed Date: 01/29/2010.

Accession Number: 20100202-0213.

Comment Date: 5 p.m. Eastern Time on Friday, February 19, 2010.

Docket Numbers: ER10-691-000.

Applicants: Duke Energy Indiana, Inc.

Description: Duke Energy Indiana, Inc submits a Memorandum of Understanding with Vectren Energy Delivery of Indiana, Inc.

Filed Date: 02/01/2010.

Accession Number: 20100202-0228.

Comment Date: 5 p.m. Eastern Time on Monday, February 22, 2010.

Docket Numbers: ER10-692-000.

Applicants: Southwest Power Pool, Inc.

Description: Southwest Power Pool, Inc submits an executed service agreement for Network Integration Transmission Service with Golden Spread Electric Coop. et al.

Filed Date: 02/01/2010.

Accession Number: 20100202-0227.

Comment Date: 5 p.m. Eastern Time on Monday, February 22, 2010.

Docket Numbers: ER10-693-000.

Applicants: Southwest Power Pool, Inc.

Description: Southwest Power Pool, Inc submits an executed service agreement for Network Integration Transmission Service with Kansas Electric Power Coop., Inc et al.

Filed Date: 02/01/2010.

Accession Number: 20100202-0226.

Comment Date: 5 p.m. Eastern Time on Monday, February 22, 2010.

Docket Numbers: ER10-694-000.

Applicants: Southwest Power Pool, Inc.

Description: Southwest Power Pool, Inc submits an executed service agreement for Network Integration Transmission Service between SPP as Transmission Provider and Tex-La Electric Coop. of Texas, Inc etc.

Filed Date: 02/01/2010.

Accession Number: 20100202-0225.

Comment Date: 5 p.m. Eastern Time on Monday, February 22, 2010.

Docket Numbers: ER10-695-000.

Applicants: Southwest Power Pool, Inc.

Description: Southwest Power Pool, Inc submits an executed service agreement for Network Integration Transmission Service with the Board of Public Utilities, Springfield, Missouri.

Filed Date: 02/01/2010.

Accession Number: 20100202-0224.

Comment Date: 5 p.m. Eastern Time on Monday, February 22, 2010.

Docket Numbers: ER10-696-000.

Applicants: Southwest Power Pool, Inc.

Description: Southwest Power Pool, Inc submits unexecuted service agreement for Network Integration Transmission Service with Northeast Texas Electric Cooperative, Inc et al.

Filed Date: 02/01/2010.

Accession Number: 20100202-0223.

Comment Date: 5 p.m. Eastern Time on Monday, February 22, 2010.

Docket Numbers: ER10-697-000.

Applicants: Southwest Power Pool, Inc.

Description: Southwest Power Pool, Inc submits notice of cancellation of the Point to Point Transmission Service Agreement between SPP and Kansas Municipal Energy Agency to be effective 1/1/2010.

Filed Date: 02/01/2010.

Accession Number: 20100202-0222.

Comment Date: 5 p.m. Eastern Time on Monday, February 22, 2010.

Docket Numbers: ER10-698-000.

Applicants: Southwest Power Pool, Inc.

Description: Southwest Power Pool, Inc submits an unexecuted service agreement for Network Integration Transmission Service with East Texas Electric Cooperative, Inc et al.

Filed Date: 02/01/2010.

Accession Number: 20100202-0221.

Comment Date: 5 p.m. Eastern Time on Monday, February 22, 2010.

Docket Numbers: ER10-699-000.

Applicants: Southwest Power Pool, Inc.

Description: Southwest Power Pool, Inc submits an executed service agreement for Network Integration Transmission Service with Kansas Municipal Energy Agency et al.

Filed Date: 02/01/2010.

Accession Number: 20100202-0220.

Comment Date: 5 p.m. Eastern Time on Monday, February 22, 2010.

Docket Numbers: ER10-700-000.

Applicants: Southwest Power Pool, Inc.

Description: Southwest Power Pool, Inc submits executed Second Revised Agreement for Wholesale Distribution Service Charges between Kansas Electric Power Cooperative, Inc and the Empire District Electric Company.

Filed Date: 02/01/2010.

Accession Number: 20100202-0219.

Comment Date: 5 p.m. Eastern Time on Monday, February 22, 2010.

Docket Numbers: ER10-701-000.

Applicants: JJR Power LLC.

Description: JJR Power LLC submits notice of cancellation of FERC Tariff, Original Volume No 1 to be effective 2/1/2010.

Filed Date: 02/01/2010.

Accession Number: 20100202-0218.

Comment Date: 5 p.m. Eastern Time on Monday, February 22, 2010.

Docket Numbers: ER10-702-000.

Applicants: EDF Inc.

Description: EDF Development Inc submits a notice of name change and succession.

Filed Date: 02/01/2010.

Accession Number: 20100202-0230.

Comment Date: 5 p.m. Eastern Time on Monday, February 22, 2010.

Docket Numbers: ER10-703-000.

Applicants: PJM Interconnection, LLC.

Description: PJM Interconnections, LLC submits revisions to Attachment Q, of the PJM Open Access Transmission Tariff etc.

Filed Date: 02/01/2010.

Accession Number: 20100202-0229.

Comment Date: 5 p.m. Eastern Time on Monday, February 22, 2010.

Docket Numbers: ER10-706-000.

Applicants: Midwest Independent Transmission System.

Description: Midwest Independent Transmission System Operator, Inc submits amended and restated large generator interconnection agreement.

Filed Date: 02/01/2010.

Accession Number: 20100202-0235.

Comment Date: 5 p.m. Eastern Time on Monday, February 22, 2010.

Docket Numbers: ER10-707-000.

Applicants: Florida Power Corporation.

Description: Florida Power Corporation submits Interchange Service Agreements.

Filed Date: 02/01/2010.

Accession Number: 20100202-0233.

Comment Date: 5 p.m. Eastern Time on Monday, February 22, 2010.

Docket Numbers: ER10-708-000.

Applicants: American Electric Power Service Corporation.

Description: Kentucky Power Company submits and request acceptance of a first revised Interconnection Agreement 1530 to its FERC Electric Tariff, Sixth Revised Volume 1 with East Kentucky Power Cooperative.

Filed Date: 02/01/2010.

Accession Number: 20100202-0234.

Comment Date: 5 p.m. Eastern Time on Monday, February 22, 2010.

Docket Numbers: ER10-709-000.

Applicants: Pacific Gas and Electric Company.

Description: Pacific Gas and Electric Co submits the Twenty-Eighth Filing of Facilities Agreements.

Filed Date: 02/01/2010.

Accession Number: 20100202-0242.

Comment Date: 5 p.m. Eastern Time on Monday, February 22, 2010.

Docket Numbers: ER10-710-000.

Applicants: Nevada Power Company.

Description: Nevada Power Company et al submit revisions to the Sierra Pacific Resources Operating Companies FERC Electric Third Revised Volume No 1 Open Access Transmission Tariff.

Filed Date: 02/01/2010.

Accession Number: 20100202-0240.

Comment Date: 5 p.m. Eastern Time on Monday, February 22, 2010.

Take notice that the Commission received the following open access transmission tariff filings:

Docket Numbers: OA10-6-000; ER03-721-014; TS10-3-000.

Applicants: New Harquahala Generating Company, LLC.

Description: Request for Waivers of New Harquahala Generating Company, LLC.

Filed Date: 01/29/2010.

Accession Number: 20100129-5140.

Comment Date: 5 p.m. Eastern Time on Friday, February 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-2732 Filed 2-8-10; 8:45 am]

BILLING CODE 6717-01-P